DEPARTMENT OF EDUCATION

[CFDA No. 84.330]

Notice To Correct Deadline for Intergovernmental Review

AGENCY: Office of Elementary and Secondary Education, Department of Education.

ACTION: Advanced Placement Incentive Program; Notice inviting applications for new awards for Fiscal Year (FY 2001; Notice to correct deadline for intergovernmental review).

SUMMARY: On April 23, 2001 (66 FR 20440-20442), the Department published a notice inviting applications for new awards for FY 2001. The notice established June 22, 2001 as the deadline for intergovernmental review. The Secretary corrects the deadline the intergovernmental review for the Advanced Placement Incentive Program grant competition.

DATES: The new deadline for intergovernmental review is August 6, 2001. The deadline for transmittal of applications remains June 7, 2001.

FOR FURTHER INFORMATION CONTACT: Frank B. Robinson, U.S. Department of Education, School of Improvement Programs, 400 Maryland Avenue, SW., Room 3C153, Washington, DC 20202-6140; Telephone (202) 260-2669. If you use a telecommunications device for the deaf (TDD), you may call the Federal Information Relay Service (FIRS) at 1-888-877-8339.

Electronic Access to This Document

You may view this document, as well as all other Department of Education documents published in the Federal Register, in text or Adobe Portable Document Format (PDF) on the Internet at the following site: www.ed.gov./legislation/FedRegister.

To use PDF, you must have Adobe Acrobat Reader, which is available free at the previous site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html.

Authority: 20 U.S.C. 7131.

Dated: May 4, 2001.
Thomas M. Corwin,
Acting Deputy Assistant Secretary for Elementary and Secondary Education.

[FR Doc. 01-11823 Filed 5-9-01; 8:45 am]

BILLING CODE 4000-01-M